DEPARTMENT OF COMMERCE

International Trade Administration

The President's Export Council: Meeting of the President's Export Council

AGENCY: International Trade Administration, U.S. Department of Commerce.

ACTION: Notice of an open meeting via teleconference.

SUMMARY: The President's Export Council will hold a meeting via teleconference to discuss a report to the President regarding the Council's recent fact-finding trip to China.

Date: August 19, 2004.

Time: 1:00 p.m. (EST).

For Conference Call-In Number and Any Further Information Contact: The President's Export Council Executive Secretariat at (202) 482-1124.

Dated: August 4, 2004.
Sam Giller,
Executive Secretariat, The President's Export Council.

[FR Doc. 04-18248 Filed 8-6-04; 8:45 am]

BILLING CODE 3510-DR-P